DEPARTMENT OF COMMERCE

Customs Service

19 CFR Part 12

Import Restrictions Imposed on Archaeological and Ethnological Materials from Bolivia

Correction

In rule document 01-30417 beginning on page 63490 in the issue of December 7, 2001, make the following correction:

§12.104g [Corrected]

On page 63499, in the third column, in amendment 2, under the heading for §12.104g, “(2) * * *” is corrected to read “(a) * * *”

[FR Doc. C1-30417 Filed 1-7-02; 8:45 am]

BILLING CODE 1505-01-D

DEPARTMENT OF COMMERCE

International Trade Administration

[A-570-869]

Notice of Preliminary Determination of Sales at Less Than Fair Value and Postponement of Final Determination: Structural Steel Beams From The People's Republic of China

Correction

In notice document 01-31981 beginning on page 67197 in the issue of Friday, December 28, 2001, make the following correction:

On page 67202, in column two, in heading Suspension of Liquidation, in the second column of the table, “117.21” should read “177.21”.

[FR Doc. C1-31981 Filed 1-7-02; 8:45 am]

BILLING CODE 1505-01-D

DEPARTMENT OF COMMERCE

International Trade Administration

[A-580-829]

Stainless Steel Wire Rod From Korea: Amendment of Final Determination of Sales at Less Than Fair Value Pursuant to Court Decision

Correction

In notice document 01-19779, appearing on page 41550, in the issue of Wednesday, August 8, 2001, make the following correction:

In the first column, under the heading EFFECTIVE DATE:, “ August 7, 2001.” should read “August 8, 2001.”

[FR Doc. C1-19779 Filed 1-7-02; 8:45 am]

BILLING CODE 1505-01-D

DEPARTMENT OF EDUCATION

Submission for OMB Review; Comment Request

Correction

In notice document 01-31608 beginning on page 66405 in the issue of Wednesday, December 26, 2001, make the following correction:

On the same page, in column two, under the heading “DATES”, “February 25, 2002” should read “January 25, 2002”.

[FR Doc. C1-31608 Filed 1-7-02; 8:45 am]

BILLING CODE 1505-01-D

DEPARTMENT OF TRANSPORTATION

Research and Special Programs Administration

Office of Hazardous Materials Safety; Notice of Applications for Modification of Exemption

Correction

In notice document 01-31656 beginning on page 66494 in the issue of Wednesday, December 26, 2001 make the following correction:

On page 66494, the table is corrected to read as set forth below.

Application No. | Docket No. | Applicant | Modification of exemption
3216-M | Solvay Fluorides St. Louis, MO (See Footnote 1) |  | 3216
8215-M | Olin Corp., Brass & Winchester, Inc. East Alton, IL (See Footnote 2) |  | 8215
10442-M | Kennedy Space Center Kennedy Space Center, FL (See Footnote 3) |  | 10442
10798-M | Chemetall Foote Corporation Kings Mountain, NC (See Footnote 4) |  | 10798
10929-M | Bulkmatic Transport Company Jersey City, NJ (See Footnote 5) |  | 10929
11185-M | Medical Waste Solutions, Inc. Gary, IN (See Footnote 6) |  | 11185
11770-M | Gas Cylinder Technologies, Inc. Tecumseh, Ontario N8N 2M4 Canada (See Footnote 7) |  | 11770
11911-M | RSPA-97-2735 | Transfer Flow, Inc. Chico, CA (See Footnote 8) | 11911
11924-M | RSPA-97-2744 | Wrangler Corp., A Division of Lapoint Industries Auburn, ME (See Footnote 9) | 11924
12817-M | RSPA-01-10513 | Phibro-Tech, Inc. Fort Lee, NJ (See Footnote 10) | 12817

[FR Doc. C1-31656 Filed 1-7-02; 8:45 am]

BILLING CODE 1505-01-D